DEPARTMENT OF COMMERCE

National Oceanic and Atmospheric Administration

50 CFR Part 648

[Docket No. 180209147-8509-02]

RIN 0648-XX010

Fisheries of the Northeastern United States; Small-Mesh Multispecies Fishery; Inseason Adjustment to the Northern Red Hake Possession Limit

AGENCY: National Marine Fisheries Service (NMFS), National Oceanic and Atmospheric Administration (NOAA), Commerce.

ACTION: Temporary rule; inseason adjustment.

SUMMARY: This action reduces the commercial per-trip possession limit for northern red hake for the remainder of the 2019 fishing year. Regulations governing the small-mesh multispecies fishery require this action because the northern red hake fishery is projected to reach 37.9 percent of its total allowable landing limit for the year. This action is intended to prevent this limit from being exceeded. This announcement also informs the public of the reduced northern red hake possession limit.

DATES: Effective September 9, 2019, through April 30, 2020.

FOR FURTHER INFORMATION CONTACT: Laura Hansen, Fishery Management Specialist, (978) 281-9225.

SUPPLEMENTARY INFORMATION: Regulations governing the red hake fishery are found at 50 CFR part 648. The small-mesh multispecies fishery is managed primarily through a series of exemptions from the Northeast Multispecies Fisheries Management Plan. The regulations describing the process to adjust inseason commercial possession limits of northern red hake are described in § 648.86(d)(4) and § 648.90(b)(5). These regulations require the NMFS Regional Administrator, Greater Atlantic Region, to reduce the northern red hake possession limit from 3,000 lb (1,361 kg) to the incidental limit of 400 lb (181 kg) when landings have been projected to reach or exceed 37.9 percent of the total allowable landings (TAL), unless such a reduction would be expected to prevent the TAL from being reached. The final rule implementing the small-mesh multispecies specifications for 2018-2020 (83 FR 27713; June 14, 2018) set the northern red hake inseason adjustment threshold for the 2019 fishing year at 228,941 lb (103,846 kg); 37.9 percent of the northern red hake TAL for the year.

Based on commercial landings data reported through September 3, 2019, the northern red hake fishery is projected to reach 37.9 percent of the TAL on September 4, 2019. It is not expected that this reduction will prevent the TAL from being reached. Using this projection, NMFS is required to reduce the commercial northern red hake possession limit to prevent the TAL from being exceeded. Therefore, effective September 9, 2019, no person may possess on board or land more than 400 lb (181 kg) of northern red hake per trip for the remainder of the fishing year (i.e., through April 30, 2020). Vessels that are currently on a trip when this reduction becomes effective may retain northern red hake up to the prior possession limit of 3,000 lb (1,361 kg) for the completion of that trip.

Classification

This action is required by 50 CFR part 648 and is exempt from review under Executive Order 12866.

The Assistant Administrator for Fisheries, NOAA, finds good cause under 5 U.S.C. 553(b)(B) to waive prior notice and the opportunity for public comment because it would be contrary to the public interest. This action reduces the per-trip possession limit for northern red hake to the incidental limit of 400 lb (181 kg) until April 30, 2020, under current small-mesh multispecies fishery regulations. The regulations at § 648.86(d) require such action to ensure that commercial small-mesh multispecies vessels do not exceed the TAL set for the northern red hake stock. If implementation of this reduction is delayed, the northern red hake TAL for this fishing year may be exceeded, thereby undermining the conservation objectives of the Northeast Multispecies Fishery Management Plan. Therefore, pursuant to 5 U.S.C. 553(d)(3), the Assistant Administrator further finds good cause to waive the 30-day delayed effectiveness period for the reason stated above.

Authority: 16 U.S.C. 1801 et seq.

Dated: September 9, 2019.
Jennifer M. Wallace,
Acting Director, Office of Sustainable Fisheries, National Marine Fisheries Service.

[FR Doc. 2019-19808 Filed 9-9-19; 4:15 pm]

BILLING CODE 3510-22-P